DEPARTMENT OF VETERANS AFFAIRS

Advisory Committee on Cemeteries and Memorials; Notice of Meeting

The Department of Veterans Affairs (VA) gives notice that a meeting of the Advisory Committee on Cemeteries and Memorials, authorized by 38 U.S.C. 2401, will be held Saturday, September 9, 2000, from 8:30 a.m. and adjourn at 4:30 p.m. and Sunday, September 10, 2000, from 9 a.m. and adjourn at 5 p.m., at the Hilton Akron/Fairlawn, 3180 West Market Street, Akron, OH 44333-3365 in Akron, OH. This will be the Committee's second meeting of 2000.

The purpose of the Committee is to review the administration of VA's cemeteries and burial benefits program.

On Saturday, September 9, the Committee will be updated on National Cemetery Administration (NCA) issues, including cemetery construction, budget, legislation, military funeral honors and other issues related to the provision of headstones and markers. Additionally, the Committee will also be updated on the 50th anniversary of the Korean War commemoration and the progress of the construction of the WWII Memorial. In the afternoon, the Committee will tour and continue the meeting at the Ohio Western Reserve National Cemetery. The Committee will be briefed by the cemetery director on issues related to the opening and dedication of the new national cemetery.

On Sunday, September 10, the committee will convene at 9 a.m. to discuss NCA issues and make recommendations and endorsements. In the afternoon, the committee will participate in the dedication ceremony of the new Ohio Western Reserve National Cemetery in Rittman, OH.

The meeting will be open to the public. Individuals wishing to attend the meeting should contact Mrs. Paige Lowther, National Cemetery Administration, [phone (202) 273-5157] no later than 12 noon (ET), September 1, 2000.

Any interested person may attend, appear before, or file a statement with the committee. Individuals wishing to appear before the committee should indicate this in a letter to Mrs. Paige Lowther, Designated Federal Official, National Cemetery Administration (40), 810 Vermont Avenue, NW., Washington, DC 20420. In any such letters, the writers must fully identify themselves and state the organization, association or person(s) they represent. In addition, to the extent practicable, letters should indicate the subject matter to be discussed. Oral presentations should be limited to 10 minutes in duration. Individuals wishing to file written statements to be submitted to the Committee must also mail, or otherwise deliver, them to Mrs. Lowther.

Letters and written statements as discussed above must be mailed or delivered in time to reach Mrs. Lowther by 12 noon (ET), September 1, 2000. Oral statements will be heard between 10 a.m. and 10:30 a.m. (ET), September 9, 2000, at the Hilton Akron/Fairlawn, 3180 West Market Street, Akron, OH 44333-3365 in Akron, OH.

Dated: August 8, 2000.
By Direction of the Secretary.
Marvin R. Eason,
Committee Management Officer.

[FR Doc. 00-21311 Filed 8-21-00; 8:45 am]

BILLING CODE 8320-01-M